DEPARTMENT OF ENERGY

Federal Energy Regulatory Commission

[Project No. 175-032]

Pacific Gas and Electric Company; Notice of Application Accepted for Filing and Soliciting Motions To Intervene and Protests

Take notice that the following hydroelectric application has been filed with the Commission and is available for public inspection.

a. Type of Application: New Major License.

b. Project No.: 175-132.

c. Date filed: April 18, 2024.

d. Applicant: Pacific Gas and Electric Company.

e. Name of Project: Balch Hydroelectric Project.

f. Location: The existing project is located Fresno County, California, is in the Sierra Nevada, approximately 45 miles northeast of the City of Fresno and on the North Fork Kings River. The North Fork Kings River drains into the Kings River, which then drains into the San Joaquin River. PG&E's proposed FERC Project Boundary includes 694.67 acres of lands, of which 491.50 acres are United States (U.S.) lands, all of which are National Forest System.

g. Filed Pursuant to: Federal Power Act 16 U.S.C. 791a-825r.

h. Applicant Contact: Dave Gabbard, Vice President Power Generation, Pacific Gas and Electric Company, 300 Lakeside Drive, Oakland, CA 94612; telephone at (650) 207-9705; email at David.gabbard@pge.com.

i. FERC Contact: Benjamin Mann Project Coordinator, West Branch, Division of Hydropower Licensing; telephone at (202) 502-8127; email at benjamin.mann@ferc.gov.

j. Deadline for filing motions to intervene and protests: 60 days from the issuance date of this notice.

The Commission strongly encourages electronic filing. Please file motions to intervene and protests using the Commission's eFiling system at https://ferconline.ferc.gov/FERC.aspx. Commenters can submit brief comments up to 6,000 characters, without prior registration, using the eComment system at https://ferconline.ferc.gov/Quick.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Balch Hydroelectric Project (P-175-032).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis at this time.

l. The existing Balch Hydroelectric Project (project) includes the following facilities: (1) a 135-foot-high, 396-foot-long diversion dam with a crest elevation of 4,098 feet that includes a 364-foot-long spillway and is located on the North Fork Kings River 9.9 miles upstream of the confluence with Kings River; (2) the 35-acre Black Rock Reservoir with a usable storage capacity of 1,260 acre-feet at a normal water surface elevation of 4,097 feet; (3) an 11-foot-high, concrete tunnel intake; (4) a water conveyance system consisting of: (a) a 19,336-foot-long tunnel with a maximum hydraulic capacity of 760 cubic feet per second (cfs) that includes the 308-foot-long Black Rock Adit, the 350-foot-long Weir Creek Adit, an unlined surge chamber, and two sluice channels; (5) a 4,905.6-foot-long penstock leading to the Balch No. 1 Powerhouse and a 4,933.3-foot-long penstock leading to the Balch No. 2 Powerhouse; (6) the 65.5- foot-long, 80.5-foot-wide Balch No. 1 Powerhouse housing one turbine-generator unit with an authorized installed capacity of 31.02 megawatts (MW) and a maximum hydraulic capacity of 213 cfs; (7) the 149-foot-long, 84-foot-wide Balch No. 2 Powerhouse housing two turbine-generator units with a total authorized installed capacity of 105 MW and a maximum hydraulic capacity of 315 cfs; (8) a 165-foot-high, 238-foot-long afterbay dam with a crest elevation of 1,704 feet that includes a 238-foot-long spillway; (9) a 7-acre afterbay with a usable storage capacity of 135 acre-feet; (10) project roads and trails; (11) recreation facilities; (12) a 22-mile-long, 115-kilovolt (kV) transmission line connecting the project with the grid at Piedra Junction; (13) the 76-acre Balch Camp, which is the project operating headquarters and includes personnel housing; (14) a 6.2-mile-line, 12-kV distribution line connecting Balch Camp with the project's diversion dam; and (15) appurtenant facilities.

The Balch Project is located downstream of PG&E's Haas-Kings River Hydroelectric Project No. 1988 and Helms Pumped Storage Project No. 2735, which use the same reservoirs (Courtright Lake and Lake Wilshon) for operation. The project is operated as a peaking facility to generate power that is released from upstream storage to meet power demand and for irrigation purposes. Project operation is coordinated with Project No. 1988, whose releases from Lake Wilshon largely control inflow to Black Rock Reservoir; however, spill fluctuations at the project are possible at times when inflow exceeds powerhouse capacity and during powerhouse outages.

The current license requires PG&E to maintain the following continuous minimum flows in the North Kings River: (1) during normal water years: (a) from June 1 through November 31, 5 cfs from Black Rock Reservoir, 15 cfs from Balch Afterbay, and 30 cfs of total river flow; and (b) from December 1 through May 31, 2.5 cfs from Black Rock Reservoir, 10 cfs from Balch Afterbay, and 30 cfs of total river flow; (2) during dry water years, as defined by the California Department of Water Resources, year-round flows of 2.5 cfs from Black Rock Reservoir, 10 cfs from Balch Afterbay, and 20 cfs of total river flow.

PG&E proposes to continue operating the project in a manner that is consistent with current operation, with the exception of the following new proposed measures: (1) minimum flows and water year types, (2) a recreation plan, (3) a biological resources management plan, (4) a historic properties management plan, (5) low-level operations, (6) flood period operations, (7) a hazardous substance plan, (8) a gaging plan, (9) visual resources management, (10) a fire management and response plan, and (11) a transportation system management plan.

m. A copy of the application can be viewed on the Commission's website at https://www.ferc.gov using the “eLibrary” link. Enter the docket number excluding the last three digits in the docket number field to access the document. For assistance, contact FERC Online Support at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE”; (2) set forth in the heading the name of the applicant and the project number of the application to which the filing responds; (3) furnish the name, address, and telephone number of the person submitting the filing; and (4) otherwise comply with the requirements of 18 CFR 385.2001 through 385.2005. Agencies may obtain copies of the application directly from the applicant. A copy of any protest or motion to intervene must be served upon each representative of the applicant specified in the particular application.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

o. Procedural schedule: The application will be processed according to the following preliminary schedule. Revisions to the schedule will be made as appropriate.

Milestone | Date
Issue Scoping Document 1 | December 2024.
Comments on Scoping Document 1 Due | January 2025.
Issue Request for Additional Information (if necessary) | January 2025.
Issue Scoping Document 2 (if necessary) | March 2025.
Issue Notice of Ready for Environmental Analysis | November 2025.

Dated: November 15, 2024.
Debbie-Anne A. Reese,
Secretary.

[FR Doc. 2024-27356 Filed 11-21-24; 8:45 am]

BILLING CODE 6717-01-P